NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that three meetings of the Humanities Panel will be held during January 2014 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at The John W. Kluge Center at the Library of Congress, 101 Independence Avenue SE., Washington, DC 20540-4860.

FOR FURTHER INFORMATION CONTACT: Lisette Voyatzis, Committee Management Officer, 1100 Pennsylvania Ave. NW., Room, 529, Washington, DC 20506, or call (202) 606-8322. Hearing-impaired individuals are advised that information on this matter may be obtained by contacting the National Endowment for the Humanities' TDD terminal at (202) 606-8282.

SUPPLEMENTARY INFORMATION:

Meetings

1. Date: January 13, 2014

Time: 8:30 a.m. to 5:00 p.m.

This meeting will discuss applications for the Kluge Fellowships grant program, submitted to the division of Research Programs.

2. Date: January 14, 2014

Time: 8:30 a.m. to 5:00 p.m.

This meeting will discuss applications for the Klug Fellowships grant program, submitted to the division of Research Programs.

3. Date: January 16, 2014

Time: 8:30 a.m. to 5:00 p.m.

This meeting will discuss applications for the Kluge Fellowships grant program, submitted to the division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: December 5, 2013.
Lisette Voyatzis,
Committee Management Officer.

[FR Doc. 2013-29453 Filed 12-9-13; 8:45 am]

BILLING CODE 7536-01-P